DEPARTMENT OF ENERGY

Federal Energy Regulatory Commission

[Docket No. CP08-2-000]

El Paso Natural Gas Company; Notice of Intent To Prepare an Environmental Assessment for the Proposed Eunice Replacement Project and Request for Comments on Environmental Issues

November 2, 2007.

The staff of the Federal Energy Regulatory Commission (FERC or Commission) will prepare an environmental assessment (EA) that will discuss the environmental impacts of the Eunice Replacement Project (Project) involving the abandonment of existing natural gas compression facilities, and construction and operation of new natural gas compression facilities by El Paso Natural Gas Company (EPNG) in Lea County, New Mexico.¹ The EA will be used by the Commission in its decisionmaking process to determine whether the project is in the public convenience and necessity.

¹ On October 2, 2007, EPNG filed its application with the Commission under section 7(c) of the Natural Gas Act, 15 United States Code § 717(b)(a), and Parts 157 and 284 of the Commission's regulations. The Commission filed its notice of application on October 11, 2007.

A fact sheet prepared by the FERC entitled “An Interstate Natural Gas Facility On My Land? What Do I Need To Know?” was attached to the project notice EPNG provided to affected landowners. This fact sheet addresses a number of typically asked questions, including the use of eminent domain and how to participate in the Commission's proceedings. It is available for viewing on the FERC Internet Web site (www.ferc.gov).

Summary of the Proposed Project

EPNG seeks authority to abandon in place:

• Its existing Eunice Mainline Compressor Station consisting of 11 Clark BA-5 and one Clark HBA-5 reciprocating compressor units, rated at approximately 12,100 ISO HP, with appurtenances and related structures; and

• an existing pig launcher.

EPNG also seeks authority to construct on land owned by EPNG:

• A 600 foot segment of 30″ pipeline to connect the discharge of the proposed Eunice C Compressor Station to the California Line and serve as a bypass of the abandoned Eunice Mainline Compressor Station;

• Two gas turbine-drive Taurus 60 compressor units on the Eunice C Compressor Station site, totaling approximately 15,600 ISO HP;

• A compressor unit building to house the compressor units;

• A pig launcher/check meter station within the proposed Eunice C Compressor Station site; and

• A valve station within the proposed Eunice C Compressor Station site.

In addition, EPNG seeks authority to up-rate, on land owned by EPNG, a 1,700 foot segment of pipeline (Line 1135) to a maximum allowable operating pressure (MAOP) of 837 psig. EPNG would connect this segment of Line 1135, currently located on the suction side of the existing Eunice Mainline Compressor Station, to the discharge of the proposed Eunice C Compressor Station.

The general location of the project facilities is shown in Appendix 1.²

² The appendices referenced in this notice are not being printed in the Federal Register. Copies of all appendices, other than Appendix 1 (maps), are available on the Commission's website at the “eLibrary” link or from the Commission's Public Reference Room, 888 First Street, NE., Washington, DC 20426, or call (202) 502-8371. For instructions on connecting to eLibrary, refer to the last page of this notice. Copies of the appendices were sent to all those receiving this notice in the mail.

Land Requirements for Construction

Construction of the proposed facilities would require about 16.8 acres of land. Following construction, about 3.0 acres would be permanently impacted by the new Eunice C Compressor Station. All project facilities would be maintained within existing EPNG property.

The EA Process

The National Environmental Policy Act (NEPA) requires the Commission to take into account the environmental impacts that could result from an action whenever it considers the issuance of a Certificate of Public Convenience and Necessity. NEPA also requires us to discover and address concerns the public may have about proposals. This process is referred to as “scoping.” The main goal of the scoping process is to focus the analysis in the EA on the important environmental issues. By this Notice of Intent, the Commission staff requests public comments on the scope of the issues to address in the EA. All comments received are considered during the preparation of the EA. State and local government representatives are encouraged to notify their constituents of this proposed action and encourage them to comment on their areas of concern.

In the EA, we ³ will discuss impacts that could occur as a result of the construction and operation of the proposed project under these general headings:

³ “We”, “us”, and “our” refer to the environmental staff of the Office of Energy Projects (OEP).

• Geology and Soils

• Land Use

• Water Resources, Fisheries, and Wetlands

• Cultural Resources

• Vegetation and Wildlife

• Threatened and Endangered Species

• Air Quality and Noise

We will also evaluate reasonable alternatives to the proposed project or portions of the project, and make recommendations on how to lessen or avoid impacts on the various resource areas.

Our independent analysis of the issues will be in the EA. Depending on the comments received during the scoping process, the EA may be published and mailed to federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section below.

Currently Identified Environmental Issues

We have already identified the following issues that we think deserve attention based on a preliminary review of the proposed facilities and the environmental information provided by EPNG. This preliminary list of issues may be changed based on your comments and our analysis.

• The net impact on air quality and noise of the general project area may be positively affected by the abandonment of the existing compressor station and operation of the proposed new compressor station.

• No impacts would occur to water resources, fisheries or wetlands. Other than air emissions and noise, all impacts would occur within existing EPNG property.

Public Participation

You can make a difference by providing us with your specific comments or concerns about the project. By becoming a commenter, your concerns will be addressed in the EA and considered by the Commission. You should focus on the potential environmental effects of the proposal, alternatives to the proposal (including alternative locations), and measures to avoid or lessen environmental impact. The more specific your comments, the more useful they will be. Please carefully follow these instructions to ensure that your comments are received in time and properly recorded:

• Send an original and two copies of your letter to: Kimberly D. Bose, Secretary, Federal Energy Regulatory Commission, 888 First St., NE., Room 1A, Washington, DC 20426.

• Label one copy of the comments for the attention of OEP/DG2E, Gas Branch 3.

• Reference Docket No. CP08-2-000.

• Mail your comments so that they will be received in Washington, DC on or before December 3, 2007.

We will include all comments that we receive within a reasonable time frame in our environmental analysis of this project. However, the Commission strongly encourages electronic filing of any comments or interventions or protests to this proceeding. See 18 CFR 385.2001(a)(1)(iii) and the instructions on the Commission's Web site at http://www.ferc.gov under the “e-Filing” link and the link to the User's Guide. Before you can file comments you will need to create a free account which can be created on-line.

We may mail the EA for comment. If you are interested in receiving it, please return the Information Request (Appendix 3). If you do not return the Information Request, you will be taken off the mailing list.

Becoming an Intervenor

In addition to involvement in the EA scoping process, you may want to become an official party to the proceeding, or “intervenor”. To become an intervenor you must file a motion to intervene according to Rule 214 of the Commission's Rules of Practice and Procedure (18 CFR 385.214). Intervenors have the right to seek rehearing of the Commission's decision. Motions to Intervene should be electronically submitted using the Commission's eFiling system at http://www.ferc.gov. Persons without Internet access should send an original and 14 copies of their motion to the Secretary of the Commission at the address indicated previously. Persons filing Motions to Intervene on or before the comment deadline indicated above must send a copy of the motion to the Applicant. All filings, including late interventions, submitted after the comment deadline must be served on the Applicant and all other intervenors identified on the Commission's service list for this proceeding. Persons on the service list with e-mail addresses may be served electronically; others must be served a hard copy of the filing.

Affected landowners and parties with environmental concerns may be granted intervenor status upon showing good cause by stating that they have a clear and direct interest in this proceeding which would not be adequately represented by any other parties. You do not need intervenor status to have your environmental comments considered.

Environmental Mailing List

An effort is being made to send this notice to all individuals, organizations, and government entities interested in and/or potentially affected by the proposed project. This includes all landowners who are potential right-of-way grantors, whose property may be used temporarily for project purposes, or who own land within distances defined in the Commission's regulations of certain aboveground facilities. By this notice we are also asking governmental agencies, especially those in Appendix 2, to express their interest in becoming cooperating agencies for the preparation of the EA.

Additional Information

Additional information about the project is available from the Commission's Office of External Affairs, at 1-866-208-FERC or on the FERC Internet Web site (www.ferc.gov) using the eLibrary link. Click on the eLibrary link, click on “General Search” and enter the docket number excluding the last three digits in the Docket Number field. Be sure you have selected an appropriate date range. For assistance, please contact FERC Online Support at FercOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to www.ferc.gov/esubscribenow.htm.

Finally, public meetings or site visits will be posted on the Commission's calendar located at http://www.ferc.gov/EventCalendar/EventsList.aspx along with other related information.

Kimberly D. Bose,
Secretary.

[FR Doc. E7-22022 Filed 11-8-07; 8:45 am]

BILLING CODE 6717-01-P